DEPARTMENT OF THE INTERIOR

National Park Service

[NPS-WASO-NRNHL-DTS#-35503; PPWOCRADI0, PCU00RP14.R50000]

National Register of Historic Places; Notification of Pending Nominations and Related Actions

AGENCY: National Park Service, Interior.

ACTION: Notice.

SUMMARY: The National Park Service is soliciting electronic comments on the significance of properties nominated before March 18, 2023, for listing or related actions in the National Register of Historic Places.

DATES: Comments should be submitted electronically by April 14, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before March 18, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations Submitted by State or Tribal Historic Preservation Officers

Key: State, County, Property Name, Multiple Name (if applicable), Address/Boundary, City, Vicinity, Reference Number.

CALIFORNIA

Ventura County

Maulhardt, Gottfried, Farm, 1251 Gottfried Pl., Oxnard, SG100008891

DISTRICT OF COLUMBIA

District of Columbia

Chevy Chase Savings Bank, 5530 Connecticut Ave. NW, Washington, SG100008870

FLORIDA

Miami-Dade County

Grove Park Historic District, Bounded by NW 17th Ave., FL 836, NW 14th Ct., and NW 7th St., Miami, SG100008869

Duval County

Garden Club of Jacksonville, The, 1005 Riverside Ave., Jacksonville, SG100008872

Pinellas County

Peninsular Fruit Company Building, 10000 Gandy Blvd. North, St. Petersburg, SG100008871

ILLINOIS

Cook County

Laramie State Bank Building, 5200 West Chicago Ave., Chicago, SG100008873

Wilmette Village Center Historic District, 1200 blk. of Washington Ct.; 1100 blks. of Central and Wilmette Aves.; 700 block of 12th St., Wilmette, SG100008874

KANSAS

Wilson County

DeLay, Dorothy, House, 124 North 2nd St., Neodesha, SG100008863

KENTUCKY

Clay County

Manchester Historic District, Portions of Main, Bridge, and Lawyer Sts., Town Sq., Richmond Rd./US 421/White St., Manchester, SG100008883

MISSISSIPPI

Adams County

Propinquity, 48 Powlett Rd., Natchez vicinity, SG100008884

MONTANA

Park County

Sacajawea-Miles Parks Historic District, Roughly bounded by West Butte and South 2nd Sts., River Dr., a channel of the lagoon to the north and west, the Yellowstone R., and River Dr., Livingston, SG100008882

NEW YORK

Erie County

Lustron House Westchester Deluxe Model M02 #01310 (Lustron Houses in New York MPS), 3381 North Boston Rd., Eden, MP100008880

Kings County

English Evangelical Lutheran Church of the Reformation, 105 Barbey St., Brooklyn, SG100008887

Oneida County

First Church of Christ, Scientist, 1608 Genesee St., Utica, SG100008877

Beeches Historic District, The 7900 Turin Rd., Rome, SG100008881

OHIO

Warren County

Franklin Historic District, Roughly Bounded by West 1st, South. Main, and Sixth Sts., and the Great Miami R., Franklin, SG100008886

PENNSYLVANIA

Dauphin County

Midland Cemetery (African American Churches and Cemeteries in Pennsylvania, c. 1644-c. 1970 MPS), 206 Kelker St., Swatara Township, MP100008865

Lackawanna County

Scranton Electric Building, 507 Linden St., Scranton, SG100008866

Philadelphia County

S.L. Allen & Company Building, 459 West Glenwood Ave., Philadelphia, SG100008867

Star Carpet Mill (Textile Industry in the Kensington Neighborhood of Philadelphia, Pennsylvania MPS), 1801 North Howard St., Philadelphia, MP100008868

TENNESSEE

Knox County

Emory Place Historic District (Boundary Increase), (Knoxville and Knox County MPS), Portions of North Broadway, North Central, Lamar, King, and North Gay Sts., Emory Pl., East 4th, East 5th. and West 5th Aves., Knoxville, BC100008890

Williamson County

Lewisburg Avenue Historic District (Boundary Increase/Decrease), (Williamson County MRA), Along sections of Lewisburg Ave., South Margin, and Adams Sts., Franklin, BC100008879

WISCONSIN

Washington County

Tischer, Wilhelm Blacksmith Shop, 1125 Western Ave., Jackson, SG100008864

A request to move has been received for the following resource:

NEW YORK

Columbia County

Columbia Turnpike East Tollhouse, NY 23, Hillsdale, MV16000411

An additional documentation has been received for the following resources:

ILLINOIS

Greene County

Black, Margaret, Farmstead (Additional Documentation), RR 3, Carrollton, AD05000110

TENNESSEE

Knox County

Emory Place Historic District (Additional Documentation), (Knoxville and Knox County MPS), Portions of North Broadway, North Central, Lamar, King, and North Gay Sts., Emory Pl., East 4th, East 5th. and West 5th Aves., Knoxville, AD94001259

Williamson County

Lewisburg Avenue Historic District (Additional Documentation), (Williamson County MRA), Along sections of Lewisburg Ave., South Margin, and Adams Sts., Franklin, AD88000312

Nomination submitted by Federal Preservation Officer:

The State Historic Preservation Officer reviewed the following nomination and responded to the Federal Preservation Officer within 45 days of receipt of the nomination and supports listing the property in the National Register of Historic Places.

MONTANA

Stillwater County

Meyers Creek Work Center, 101-199 Meyers Creek Rd, Custer Gallatin NF, Nye vicinity, SG100008876

Authority: Section 60.13 of 36 CFR part 60.

Dated: March 22, 2023.
Serena G. Bellew,
Deputy Associate Director, Preservation Assistance Programs, Cultural Resources, Partnerships, and Science.

[FR Doc. 2023-06592 Filed 3-29-23; 8:45 am]

BILLING CODE 4312-52-P